DEPARTMENT OF HOMELAND SECURITY

Coast Guard

33 CFR Part 100

[CGD01-05-005]

RIN 1625-AA08

Special Local Regulations for Marine Event; Manhattan College Invitational Regatta, Harlem River, New York, NY

AGENCY: Coast Guard, DHS.

ACTION: Notice of proposed rulemaking.

SUMMARY: The Coast Guard proposes to establish a temporary special local regulation for a regatta located on the Harlem River. This proposed action would protect life and property on the navigable waters of the United States during the event. This action would restrict vessel traffic in a portion of the Harlem River, New York, NY, during the event.

DATES: Comments and related material must reach the Coast Guard on or before March 17, 2005.

ADDRESSES: You may mail comments and related material to Waterways Oversight Branch, Coast Guard Activities New York, 212 Coast Guard Drive, Room 203, Staten Island, NY 10305, or hand deliver them between the hours of 8 a.m. and 3 p.m., at the same address above, Monday through Friday, except Federal holidays. Comments and material received from the public, as well as documents indicated in this preamble as being available in the docket, are part of docket CGD01-05-005 and are available for inspection or copying at the address indicated above between 8 a.m. and 3 p.m., Monday through Friday, except Federal holidays.

FOR FURTHER INFORMATION CONTACT: Lieutenant Commander W. Morton, Waterways Oversight Branch, Coast Guard Activities New York (718) 354-4191.

SUPPLEMENTARY INFORMATION:

Request for Comments

We encourage you to participate in this rulemaking by submitting comments and related material. If you do so, please include your name and address, identify the docket number for this rulemaking (CGD01-05-005), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

If, as we anticipate, we make this temporary final rule effective less than 30 days after publication in the Federal Register, we will explain in that publication, as required by 5 U.S.C. (d)(3), our good cause for doing so.

Public Meeting

We do not now plan to hold a public meeting. But you may submit a request for a meeting by writing to the Waterways Management Division at the address under ADDRESSES explaining why one would be beneficial. If we determine that one would aid this rulemaking, we will hold one at a time and place announced by a later notice in the Federal Register.

Background and Purpose

The Coast Guard has received an application from Manhattan College to hold a rowing regatta on the waters of the Harlem River. This rule would establish a temporary special local regulation for that event, the Manhattan College Invitational Regatta. This action is necessary to protect life and property on the navigable waters of the United States during the event. This temporary special local regulation would be enforced for twelve hours between the hours of 7 a.m and 7 p.m. on Saturday April 2, 2005.

Discussion of Rule

This rule would establish a temporary special local regulation in all waters of the Harlem River between the Macombs Dam Bridge and the University Heights Bridge. The proposed regulation would restrict general navigation in the regulated area located on the Harlem River. General navigation would be restricted unless the COTP, New York or the designated on-scene patrol personnel authorize transit. These designated on-scene patrol personnel comprise commissioned, warrant, and petty officers of the United States Coast Guard.

This special local regulation would be in effect from 7 a.m. until 7 p.m. on Saturday, April 2, 2005. It would prevent vessels from transiting a portion of the Harlem River and is needed to protect the maritime public and the event participants. Vessels may be authorized to transit through the zone and such authorization may be requested by contacting the Activities New York Marine Events Coordinator at (718) 354-4197, at least 2 business days prior to the event. Public notifications would be made prior to the event via the Local Notice to Mariners and Marine Information Broadcast to allow maritime interests ample opportunity to schedule around the event.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). We expect the economic impact of this proposed rule to be so minimal that a full Regulatory Evaluation under the regulatory policies and procedures of DHS is unnecessary.

This finding is based on the limited use of this portion of waterway by other maritime interests and that limited accommodations will be made to meet the needs of commercial and other vessel traffic that require transit times during this event. The Coast Guard will provide further notice of the date and time of the regatta and this notice will be made to the local maritime community by the Local Notice to Mariners, marine information broadcasts; and on the Internet at http://homeport.uscg.mil.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: The owners or operators of vessels intending to transit a portion of the affected waterway during the time this zone is enforced.

This special local regulation would not have a significant economic impact on a substantial number of small entities for reasons enumerated under the “Regulatory Evaluation” section.

Assistance for Small Entities

Under section 213(a) of the Small Business Regulatory Enforcement Fairness Act of 1996 (Pub. L. 104-121), we want to assist small entities in understanding this proposed temporary rule so that they can better evaluate its effects on them and participate in the rulemaking. If the proposed rule would affect your small business, organization, or governmental jurisdiction and you have questions concerning its provisions or options for compliance, please contact Lieutenant Commander W. Morton, Waterways Oversight Branch, Coast Guard Activities New York at (718) 354-4191.

Small businesses may send comments on the actions of Federal employees who enforce, or otherwise determine compliance with, Federal regulations to the Small Business and Agriculture Regulatory Enforcement Ombudsman and the Regional Small Business Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and would not create an environmental risk to health or risk to safety that may disproportionately affect children.

Indian Tribal Governments

This proposed rule would not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have considered the environmental impact of this proposed rule and concluded that under figure 2-1, paragraph 34(h), of Commandant Instruction M16475.lD, this rule is categorically excluded from further environmental documentation. This rule fits paragraph 34(h) as it establishes special local regulations. A “Categorical Exclusion Determination” is available in the docket for inspection or copying where indicated under ADDRESSES.

List of Subjects in 33 CFR Part 100

Marine safety, Navigation (water), Reporting and recordkeeping requirements, Waterways.

For the reasons discussed in the preamble, the Coast Guard proposes to amend 33 CFR Part 100 as follows:

PART 100—REGATTAS AND MARINE PARADES

1. The authority citation for Part 100 continues to read as follows:

Authority: 33 U.S.C. 1223; and Department of Homeland Security Delegation No. 0170.1.

2. From 7 a.m. to 7 p.m. on April 2, 2005, add temporary § 100.35T01-005 to read as follows: § 100.35T01-005 Special Local Regulation; Manhattan College Invitational Regatta, Harlem River, New York, NY

(a) Regulated area. All portions of the Harlem River between the Macombs Dam Bridge and the University Heights Bridge, New York, NY.

(b) Enforcement period. This section will be enforced from 7 a.m. to 7 p.m. on Saturday, April 2, 2005.

(c) Special Local Regulations. (1) All vessels are prohibited from transiting the area without authorization of the COTP, New York or the designated on-scene-patrol personnel.

(2) Authorization to transit the area during the enforcement period may be obtained by contacting Activities New York, Marine Events Coordinator, at (718) 354-4197, at least 2 business days prior to the event.

(3) All persons and vessels shall comply with the instructions of the Coast Guard Captain of the Port or the designated on-scene-patrol personnel. These personnel comprise commissioned, warrant, and petty officers of the Coast Guard. Upon being hailed by a U. S. Coast Guard vessel by siren, radio, flashing light, or other means, the operator of a vessel shall proceed as directed.

Dated: February 8, 2005.
John L. Grenier,
Captain, U. S. Coast Guard, Acting Commander, First Coast Guard District.

[FR Doc. 05-2869 Filed 2-14-05; 8:45 am]

BILLING CODE 4910-15-P